DEPARTMENT OF AGRICULTURE

Natural Resources Conservation Service

[Docket No. NRCS-2025-0170]

Proposed Revisions to Section 1 of the Field Office Technical Guide for Kansas, Nebraska, and New Jersey

AGENCY: Natural Resources Conservation Service (NRCS), U.S. Department of Agriculture (USDA).

ACTION: Notice of availability, request for comments.

SUMMARY: NRCS is giving notice that it is proposing to revise Section 1—General Resource References of the Field Office Technical Guide for Kansas, Nebraska, and New Jersey to include State Off-Site Methods (SOSM) for Food Security Act Wetland Identification. The proposed changes will replace existing procedures in Kansas and Nebraska, and add new procedures in New Jersey. The revisions are needed to clarify procedures and improve consistency in application. SOSM are used in completing wetland determinations for USDA program eligibility purposes.

DATES: We will consider comments that we receive by February 27, 2026.

ADDRESSES: We invite you to submit comments in response to this notice. You may submit your comments through:

• Federal eRulemaking Portal: Go to http://www.regulations.gov and search for Docket ID NRCS-2025-0170. Follow the online instructions for submitting comments.

All comments received will be made publicly available on http://www.regulations.gov.

FOR FURTHER INFORMATION CONTACT: The appropriate NRCS State Conservationist as listed below:

• Kansas: David Doctorian; telephone: (785) 823-4500; email: david.doctorian@usda.gov;

• Nebraska: Robert Lawson; telephone: (402) 437-5300; email: robert.lawson@usda.gov; and

• New Jersey: Julie Hawkins: (732) 573-6040; email: julie.hawkins@usda.gov.

SUPPLEMENTARY INFORMATION: Guidance contained in each state's SOSM will be part of the technical documents and procedures that NRCS uses to determine if wetlands are present on agricultural land as required by 16 U.S.C. 3822. NRCS is required by 16 U.S.C. 3862 to make available for public review and comment all proposed revisions to standards and procedures used to carry out highly erodible land and wetland provisions of the law.

NRCS is proposing revisions to include SOSM in Section 1—General Resource References of the Field Office Technical Guide for Kansas, Nebraska, and New Jersey. The proposed SOSM will replace the following existing procedures:

• For Kansas and Nebraska, the SOSM will replace “Northern Plains Region Wetland Determination and Delineation Procedure” (March 1998).

• New Jersey does not have a current procedure to be replaced.

The revisions to the Field Office Technical Guide are needed to clarify procedures and improve consistency in application. SOSM are used in completing wetland determinations for USDA program eligibility purposes.

There are separate SOSM documents for each state. To fully understand the proposed revisions, commenters are encouraged to compare the SOSM with state procedures for the states listed above, as shown in Section 1 of the NRCS Field Office Technical Guide at https://efotg.sc.egov.usda.gov/#/. For example, from the site, select the state (Kansas or Nebraska), select “Document Search,” search for “Northern Plains Region” to find the documents being replaced: “Northern Plains Region Wetland Determination and Delineation Procedure.”

The electronic copies of each state's SOSM are available through http://www.regulations.gov by accessing Docket ID NRCS-2025-0170. Requests for paper versions or inquiries may be directed to the specific State Conservationist as identified in the FOR FURTHER INFORMATION CONTACT section above.

In general, all documents have similar language and technical methodologies with some variations based on the natural resource information available and state-specific considerations.

All comments will be considered. If no comments are received, guidance contained in each state's SOSM will be considered final at the end of the comment period for this notice.

Colton Buckley,
Associate Chief, Natural Resources Conservation Service.

[FR Doc. 2026-01705 Filed 1-27-26; 8:45 am]

BILLING CODE 3410-16-P